POSTAL SERVICE

39 CFR Part 111

New Preparation for Periodicals Flats in Mixed Area Distribution Center Bundles and Sacks

AGENCY: Postal Service.

ACTION: Final rule.

SUMMARY: To improve service for Periodicals mail, the Postal Service provided mailers the option to prepare origin mixed area distribution center (ADC) bundles and sacks beginning October 27, 2005. This final rule adopts our proposal to make the preparation of origin mixed ADC bundles and sacks required beginning July 6, 2006.

DATES: Effective Date: July 6, 2006.

FOR FURTHER INFORMATION CONTACT: Donald Lagasse, 202-268-7269.

SUPPLEMENTARY INFORMATION:

Background

On October 27, 2005, the Postal Service provided Periodicals mailers an option to separate their residual mail prepared in mixed area distribution center (ADC) bundles and sacks and to create a new type of mixed ADC bundle and sack. We offered this option because it improves service for some Periodicals without increasing our processing costs. The option allows a significant portion of Periodicals mail prepared in mixed ADC bundles and sacks to be processed with First-Class Mail and travel on the surface transportation network.

On March 7, 2006 (71 FR 11366), we proposed to make this preparation mandatory to ensure all Periodicals mailers prepare their mail consistently and in a way that improves service. We did not receive any comments on our proposal.

Summary of Changes

Under the new preparation, mailers must separate some mixed ADC mail according to the destination ZIP Codes in labeling list L201. Pieces that mailers prepare according to L201 are processed with First-Class Mail by the processing facility serving the entry office. The remaining mixed ADC mail, destined for ZIP Codes farther from the office of entry, is sent to one of the 34 facilities designated in labeling list L009 for consolidated processing.

We provide the new standards below. The effective date of these changes is July 6, 2006.

We adopt the following amendments to Mailing Standards of the United States Postal Service, Domestic Mail Manual (DMM), incorporated by reference in the Code of Federal Regulations. See 39 CFR 111.1.

List of Subjects in 39 CFR Part 111

Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend Mailing Standards of the United States Postal Service, Domestic Mail Manual (DMM) as follows:

705 Advanced Preparation and Special Postage Payment Systems

* * * * *

9.0 Preparation for Cotraying and Cosacking Bundles of Automation and Presorted Flats

* * * * *

9.2 Periodicals

* * * * *

9.2.5 Sack Preparation and Labeling

* * * * *

[Revise the bundle labeling requirements in item f for origin mixed ADC mail.]

f. Origin mixed ADC. Required for any remaining pieces for destinations in L201, Column B, corresponding to the origin ZIP Code in Column A. There is no minimum for the number of pieces in the sack, but bundles of fewer than six pieces at 5-digit, 3-digit, and ADC bundle levels are not permitted.

1. Line 1: Use L201, Column C.

2. Line 2: “PER” or “NEWS” as applicable, followed by “FLTS WKG W FCM.”

* * * * *

9.2.6 Optional Tray Preparation—Flat-Size Pieces

* * * * *

a. ADC * * *

* * * * *

[Revise item a2 to match the CIN code.]

2. Line 2: “PER” or “NEWS” as applicable, followed by “FLTS,” followed by “ADC,” followed by “BC/NBC.”

* * * * *

c. Mixed ADC * * *

* * * * *

[Revise item c2 to match the CIN code.]

2. Line 2: “PER” or “NEWS” as applicable, followed by “FLTS,” followed by “BC/NBC WKG.”

* * * * *

10.0 Preparation for Merged Containerization of Bundles of Flats Using City State Product

10.1 Periodicals

* * * * *

10.1.4 Sack Preparation and Labeling

* * * * *

[Revise the preparation requirements in item h for origin mixed ADC mail.]

h. 3-digit through mixed ADC sacks. Mailers must sack and label the following bundles according to 9.2 for cosacking of automation rate and presorted rate bundles:

1. Any 5-digit scheme and 5-digit bundles remaining after preparing sacks under 10.1.4a through 10.1.4g.

2. All 3-digit scheme, 3-digit, ADC, origin mixed ADC, and mixed ADC bundles.

3. If there are no automation rate pieces in the mailing job, sack and label under 707.22.6.

4. If there are no Presorted rate bundles in the mailing job, sack and label under 707.25.3.

* * * * *

11.0 Preparation of Cobundled Automation Rate and Presorted Rate Flats

* * * * *

11.2 Periodicals

* * * * *

11.2.2 Bundle Preparation

* * * * *

[Revise the bundling requirements in item g for origin mixed ADC mail.]

g. Origin mixed ADC, required; no minimum; for any remaining pieces for destinations in L201, Column B, corresponding to the origin ZIP Code in Column A; tan Label X or OEL.

* * * * *

707 Periodicals

* * * * *

22.0 Preparation of Presorted Periodicals

* * * * *

22.2 Bundle Preparation

* * * * *

[Revise the bundle labeling requirements in item e for origin mixed ADC mail.]

e. Origin mixed ADC, required; no minimum; for any remaining pieces for destinations in L201, Column B, corresponding to the origin ZIP Code in Column A; tan label X or OEL.

* * * * *

22.6 Sack Preparation—Flat-Size Pieces and Irregular Parcels

* * * * *

[Revise the sacking requirements in item f for origin mixed ADC mail.]

f. Origin mixed ADC, required; no minimum; for any remaining bundles for destinations in L201, Column B, corresponding to the origin ZIP Code in Column A.

1. Line 1: Use L201, Column C.

2. Line 2: “PER” or “NEWS” as applicable, followed by “FLTS” or “IRREG” as applicable, followed by “WKG W FCM.”

* * * * *

25.0 Preparation of Flat-Size Automation Periodicals

* * * * *

25.2 Bundling and Labeling

* * * * *

[Revise the bundling and labeling requirements in item f for origin mixed ADC mail.]

f. Origin mixed ADC, required; no minimum; for any remaining pieces for destinations in L201, Column B, corresponding to the origin ZIP Code in Column A; tan label X or OEL.

* * * * *

25.3 Sacking and Labeling

* * * * *

[Revise the sacking and labeling requirements in item g for origin mixed ADC mail.]

g. Origin mixed ADC, required; no minimum; for any remaining pieces for destinations in L201, Column B, corresponding to the origin ZIP Code in Column A; labeling:

1. Line 1: Use L201, Column C.

2. Line 2: “PER FLTS WKG W FCM” or “NEWS FLTS WKG W FCM,” as applicable.

* * * * *

Neva R. Watson,
Attorney, Legislative.

[FR Doc. E6-8091 Filed 5-25-06; 8:45 am]

BILLING CODE 7710-12-P